DEPARTMENT OF ENERGY

Federal Energy Regulatory Commission

[Docket No. RM96-1-043]

Standards for Business Practices of Interstate Natural Gas Pipelines; Notice of Minor Correction

On March 21, 2024, the Commission issued a Notice of Proposed Rulemaking (NOPR) proposing to amend its regulations to incorporate by reference, with certain enumerated exceptions, the latest version (Version 4.0) of Standards for Business Practices of Interstate Natural Gas Pipelines adopted by the Wholesale Gas Quadrant of the North American Energy Standards Board (NAESB) with comments due on June 4, 2024.¹ On May 21, 2024, NAESB filed a report regarding a minor correction to its Invoicing Related Standards (Version 4.0) to modify standard 3.4.1 related to the technical implementation of the Transportation/Sales Invoice.

¹ Standards for Business Practices of Interstate Natural Gas Pipelines, Notice of Proposed Rulemaking, 186 FERC ¶ 61,196 (2024).

Comments on the minor correction may be filed on or before June 4, 2024, along with comments on the NOPR.

Dated: May 21, 2024.
Debbie-Anne A. Reese,
Acting Secretary.

[FR Doc. 2024-11671 Filed 5-28-24; 8:45 am]

BILLING CODE 6717-01-P